DEPARTMENT OF JUSTICE

Antitrust Division

Notice Pursuant to the National Cooperative Research and Production Act of 1993—BizTech for Energy (“BizTech”)

Notice is hereby given that, on April 17, 2001, pursuant to section 6(a) of the National Cooperative Research and Production Act of 1993, 15 U.S.C. 4301 et seq. (“the Act”), BizTech for Energy (“BizTech”) has filed written notifications simultaneously with the Attorney General and the Federal Trade Commission disclosing changes in its membership status. The notifications were filed for the purpose of extending the Act's provisions limiting the recovery of antitrust plaintiffs to actual damages under specified circumstances. Specifically, Nexen Petroleum USA, Dallas, TX has been added as a party to this venture. Also, Quillion Inc., Houston, TX; and enertia-software.com, Midland, TX have been dropped as parties to this venture.

No other changes have been made in either the membership or planned activity of the group research project. Membership in this group research project remains open, and BizTech intends to file additional written notification disclosing all changes in membership.

On December 22, 2000, BizTech filed its original notification pursuant to section 6(a) of the Act. The Department of Justice published a notice in the Federal Register pursuant to section 6(b) of the Act on March 8, 2001 (66 FR 13968).

Constance K. Robinson,
Director of Operations, Antitrust Division.

[FR Doc. 01-13858 Filed 6-1-01; 8:45 am]

BILLING CODE 4410-11-M